DEPARTMENT OF HEALTH AND HUMAN SERVICES

Centers for Medicare & Medicaid Services

[CMS-7011-N]

Medicare Program: Request for Cosponsors for E-prescribing Educational Conference

AGENCY: Centers for Medicare & Medicaid Services (CMS), HHS.

ACTION: Notice.

SUMMARY: This notice announces the opportunity for public and private-sector organizations to act as potential cosponsors for a 2-day conference that we are sponsoring to educate stakeholders about the new e-prescribing initiative as described in section 132 of the Medicare Improvements for Patients and Providers Act of 2008.

DATES: Deadline for Cosponsor proposals: Proposals must be received no later than Friday, August 15, 2008, 5 p.m., d.s.t.

ADDRESSES: Address for Cosponsor proposals: Proposals must be sent electronically to the following: e.prescribing@cms.hhs.gov.

FOR FURTHER INFORMATION CONTACT: Tracy Self, (410) 786-2133, Tracy.Self@cms.hhs.gov, or Rachael Horvath, (410) 786-7424, Rachael.horvath@cms.hhs.gov.

SUPPLEMENTARY INFORMATION:

I. Background

Section 132 of the Medicare Improvements for Patients and Providers Act of 2008 (MIPPA) (Pub. L. 110-275) authorizes the Secretary to provide incentive payments for 2009 through 2013 to successful electronic prescribers. As described in section 132 of MIPPA, successful electronic prescribers are based on either the reporting of applicable electronic prescribing measures established under the Physician Quality Reporting Initiative (PQRI) or through the use of Part D data.

II. Goals of the Conference

We are sponsoring a 2-day conference on October 6 and 7, 2008, from 8:30 a.m. to 4:30 p.m. d.s.t. at the Sheraton Boston Hotel and Towers, Boston, Massachusetts 02199.

The goals of the conference are to—

• Equip health care professionals and other stakeholders with the knowledge and the tools to integrate e-prescribing into their business model;

• Generate discussion about the use of e-prescribing and other e-health initiatives to increase patient compliance and overall improved health outcomes;

• Educate health care professionals about the structure and the agency's plans for implementation of the incentive payment structure in regard to e-prescribing and PQRI;

• Identify and promote opportunities to overcome barriers to adoption of this new technology; and,

• Address constituent concerns about privacy, security and risk management in regard to the implementation of this new provision.

III. Cosponsor Proposals and Evaluation Criteria

This notice is an invitation to submit proposals for cosponsorship of the conference to the following: interested physician and provider organizations (including those representing primary care, specialty care, surgical and medicine-based specialties), not-for-profit organizations representing health information networks, health care professionals, retail and community pharmacies, and organizations representing State and local officials.

Interested parties must submit proposals detailing how they will support CMS in a nonfiduciary relationship by developing conference content, identifying speakers, and implementing outreach activities to educate eligible professionals and impacted consumer constituencies about the MIPPA provision.

Each proposal must state that the organization has expressed a willingness to serve as a cosponsor and must be accompanied by documentation that indicates said sponsor meets the evaluation criteria as described in this notice. In order to permit an evaluation of possible sources of conflict of interest, potential cosponsors may be asked to provide detailed information concerning financial interests related to e-health implementation.

Cosponsors will be selected based on the following evaluation criteria. Cosponsors must:

• Be a non-profit entity representing impacted constituencies of e-prescribing.

• Have no direct for-profit interest in the implementation of this provision;

• Demonstrate a substantial interest in e-prescribing technology and implementation and knowledge of current e-prescribing standards for Medicare Part D [Note: Documentation should include the organization's goals and mission; and details of previous activities to support e-prescribing including newsletter articles, internet sources, research papers, educational conferences, public testimony, or other similar documentation];

• Propose activities and connections that are likely to provide a substantial public health benefit, consistent with HHS goals and the e-prescribing initiative including but not limited to encouraging attendance through member networks, use of cosponsor's logo in support of conference outreach and identifying and engaging industry leaders for this event;

• Have the expertise and capacity to carry out its proposed activities; and,

• Demonstrate a willingness to work collaboratively with other public and private sector organizations to achieve the e-health initiatives.

We will select organizations that meet the established evaluation criteria to enter into formal cosponsor agreements to consult on the conference program content, speaker selection, and outreach strategies in addition to other tasks as described in individual cosponsor agreements. Potential cosponsors understand that any cosponsor agreements will clearly indicate that there will be no Federal endorsement of the cosponsor or any policies, activities, products or services thereof.

Authority: Sections 1848(k)(6), 1848(m)(5)(A), and 1851(d) of the Social Security Act, 42 U.S.C. 1395(w)-4(k)(6), 42 U.S.C. 1395(w)-4(m)(5)(A), and 42 U.S.C. 1395w-21.

Dated: August 8, 2008.
Kerry Weems,
Acting Administrator, Centers for Medicare & Medicaid Services.

[FR Doc. E8-18678 Filed 8-8-08; 12 pm]

BILLING CODE 4120-01-P